DEPARTMENT OF HEALTH AND HUMAN SERVICES

Agency for Toxic Substances and Disease Registry

[ATSDR-170]

Public Health Assessments Completed

AGENCY: Agency for Toxic Substances and Disease Registry (ATSDR), Department of Health and Human Services (HHS).

ACTION: Notice.

SUMMARY: This notice announces those sites for which ATSDR has completed public health assessments during the period from April through June 2001. This list includes sites that are on or proposed for inclusion on the National Priorities List (NPL), and includes sites for which assessments were prepared in response to requests from the public.

FOR FURTHER INFORMATION CONTACT: Robert C. Williams, P.E., DEE, Assistant Surgeon General, Director, Division of Health Assessment and Consultation, Agency for Toxic Substances and Disease Registry, 1600 Clifton Road, NE., Mailstop E-32, Atlanta, Georgia 30333, telephone (404) 498-0007.

SUPPLEMENTARY INFORMATION: The most recent list of completed public health assessments was published in the Federal Register on May 4, 2001 [66 FR 22577]. This announcement is the responsibility of ATSDR under the regulation, Public Health Assessments and Health Effects Studies of Hazardous Substances Releases and Facilities [42 CFR Part 90]. This rule sets forth ATSDR's procedures for the conduct of public health assessments under section 104(i) of the Comprehensive Environmental Response, Compensation, and Liability Act (CERCLA), as amended by the Superfund Amendments and Reauthorization Act (SARA) [42 U.S.C. 9604(i)].

Availability

The completed public health assessments and addenda are available for public inspection at the Division of Health Assessment and Consultation, Agency for Toxic Substances and Disease Registry, Building 33, Executive Park Drive, Atlanta, Georgia (not a mailing address), between 8 a.m. and 4:30 p.m., Monday through Friday except legal holidays. The completed public health assessments are also available by mail through the U.S. Department of Commerce, National Technical Information Service (NTIS), 5285 Port Royal Road, Springfield, Virginia 22161, or by telephone at (703) 605-6000. NTIS charges for copies of public health assessments and addenda. The NTIS order numbers are listed in parentheses following the site names.

Public Health Assesssments Completed or Issued

Between April 1 and June 30, 2001, public health assessments were issued for the sites listed below:

NPL Sites

California

Lava Cap Mine—Nevada City—(PB2001-103971)

Florida

Alaric Incorporated—Tampa—(PD2001-105121)

Callaway and Son Drum Service (a/k/a Calloway and Son Drum Service)—Lake Alfred—(PB2001-105375)

Solitron Devices, Incorporated—West Palm Beach—(PB2001-105948)

Southern Solvents, Incorporated (a/k/a Southern Solvents, Incorporated Site)—Tampa—(PB2001-105374)

Trans Circuits, Incorporated—Lake Park—(PB2001-103980)

Louisiana

D. L. Mud, Incorporated—Abbevillie—(PB2001-104785)Madisonville Creosote Works—Madisonville—(PB2001-105112)

Maryland

Brandywine Defense Reutilization and Marketing Office—Andrews—(PB2001-103970)

Michigan

Wurtsmith Air Force Base—Oscoda—(PB2001-103974)

New Hampshire

Gendron Junkyard—Pelham—(PB2001-103975)

New Jersey

Franklin Burn—Franklin Township—(PB2001-105947)

Non NPL Petitioned Sites

California

McFarland Study Area—McFarland—(PB2001-104612)

Note: Georgia-Pacific Corporation Hardwood Sawmill, Plymouth, Washington County, North Carolina was erroneously placed under the NPL site listing in the Federal Register (Vol. 66, No. 87) Friday, May 4, 2001.

Dated: August 1, 2001.
Georgi Jones,
Director, Office of Policy and External Affairs, Agency for Toxic Substances and Disease Registry.

[FR Doc. 01-19690 Filed 8-6-01; 8:45 am]

BILLING CODE 4163-70-P